DEPARTMENT OF DEFENSE

Office of the Secretary

Notice of Intent To Grant an Exclusive License; Intellectual Ventures, LLC.

AGENCY: Department of Defense, National Security Agency, DOD.

ACTION: Notice.

SUMMARY: The National Security Agency hereby gives notice of its intent to grant Intellectual Ventures, LLC, a revocable, nonassignable, sublicenseable, exclusive license to practice the following Government-Owned inventions as described in U.S. Patent Numbers listed below.

U.S. Patent Number 5,533,033 entitled “Device for and Method of Correcting Errors in Formatted Modem Transmissions”;

U.S. Patent Number 5,835,912 entitled “Method of Efficiency and Flexibility Storing, Retrieving, and Modifying Data in any Language Representation”;

U.S. Patent Number 5,937,422 entitled “Method of Automatically Generating a Topic Description for Text Searching”

U.S. Patent Number 6,005,986 entitled “Method of Identifying the Script of a Document Irrespective of Orientation” and U.S. Patent Number 6,519,362 entitled “Method of Extracting Text Present in a Color Image”.

The above-mentioned inventions are assigned to the United States Government as represented by the National Security Agency.

DATES: Anyone wishing to object to the grant of this license has fifteen (15) days from the date of this notice to file written objections along with any supporting evidence, if any.

ADDRESSES: Written objections are to be filed with the Domestic Technology Transfer Program, 9800 Savage Rd., Suite 6541, Fort George G. Meade, MD 20755-6541.

FOR FURTHER INFORMATION CONTACT: Pamela L. Porter, Director, Domestic Technology Transfer Program, 9800 Savage Rd., Suite 6541, Fort George G. Meade, MD 20755-6541, telephone (443) 479-0310.

Dated: April 28, 2006.
L.M. Bynum,
OSD Federal Register Liaison Officer, DOD.

[FR Doc. 06-4245 Filed 5-4-06; 8:45 am]

BILLING CODE 5001-06-M